DEPARTMENT OF THE INTERIOR

National Park Service

[NPS-WASO-NAGPRA-NPS0034980; PPWOCRADN0-PCU00RP14.R50000]

Notice of Inventory Completion: North Carolina Office of State Archaeology, Raleigh, NC

AGENCY: National Park Service, Interior.

ACTION: Notice.

SUMMARY: The North Carolina Office of State Archaeology has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the North Carolina Office of State Archaeology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the North Carolina Office of State Archaeology at the address in this notice by January 9, 2023.

FOR FURTHER INFORMATION CONTACT: Emily McDowell, Office of State Archaeology, 215 West Lane Street, Raleigh, NC 27616, telephone (919) 715-5599, email emily.mcdowell@ncdcr.gov.

SUPPLEMENTARY INFORMATION: Notice is here given in accordance with the Native American Graves Protection and Repatriation Act (NAGPRA), 25 U.S.C. 3003, of the completion of an inventory of human remains under the control of the North Carolina Office of State Archaeology, Raleigh, NC. The human remains were removed from the Iotla site (31MA77) in Macon County, NC.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the North Carolina Office of State Archaeology professional staff in consultation with representatives of the Cherokee Nation; Eastern Band of Cherokee Indians; and the United Keetoowah Band of Cherokee Indians in Oklahoma (hereafter referred to as “The Tribes”).

History and Description of the Remains

In 2009, human remains representing, at minimum, five individuals were removed from 31MA77, the Iotla site, in Macon County, NC. These human remains were removed during excavations conducted by TRC Environmental Corporation on behalf of the Macon County Airport Authority pursuant to 54 U.S.C. 306108 (also known as Section 106 of the National Historic Preservation Act), prior to a runway expansion project.

In February of 2009, TRC Environmental Corporation conducted archeological data recovery excavations for the airport runway expansion and improvements project. During those excavations, 97 probable human burials were identified and avoided. Five human cremations (Features 6010, 8286, 8971, 10860 [probable], and 11213) believed by TRC to be non-burial, burnt faunal features were removed during these excavations. In 2012, during analysis of the faunal assemblage, the analyst identified these burned features as human cremations, at which point TRC contacted the State Archaeologist and the Eastern Band of Cherokee Indians Tribal Historic Preservation Officer for guidance. The State Archaeologist, in turn, notified the Executive Director of the Commission of Indian Affairs of the discovery. Not until January of 2020 were the human remains received by the North Carolina Office of State Archaeology pursuant to North Carolina General Statute 70 Article 3, the Unmarked Human Burial and Human Skeletal Remains Protection Act. Upon receiving the human remains, staff from the North Carolina Office of State Archaeology Research Center, began collecting information on the human remains and consulting on them. No known individuals were identified. No associated funerary objects are present.

Data recovery at 31MA77, the Iotla site, provided archeological evidence of a long occupation extending from the Early Archaic period to the Late Qualla phase Historic Cherokee. Based on archeological information, these cremations are associated with the Middle Woodland, Connestee phase village. It is well known that the Cherokee occupied this area long before European contact, and the Late Qualla phase Historic Cherokee component of the site supports this affiliation.

Determinations Made by the Office of State Archaeology

Officials of the North Carolina Office of State Archaeology has determined that:

• Pursuant to 25 U.S.C. 3001(9), the human remains described in this notice represent the physical remains of five individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Emily McDowell, North Carolina Office of State Archaeology, 215 West Lane Street, Raleigh, NC 27616, telephone (919) 715-5599, email emily.mcdowell@ncdcr.gov, by January 9, 2023. After that date, if no additional requestors have come forward, transfer of control of the human remains to The Tribes may proceed.

The North Carolina Office of State Archaeology is responsible for notifying The Tribes that this notice has been published.

Dated: November 30, 2022.
Melanie O'Brien,
Manager, National NAGPRA Program.

[FR Doc. 2022-26802 Filed 12-8-22; 8:45 am]

BILLING CODE 4312-52-P